DEPARTMENT OF THE INTERIOR

National Park Service

Draft Environmental Impact Statement on Nabesna Off-Road Vehicle Management Plan, Wrangell-St. Elias National Park and Preserve

AGENCY: National Park Service, Interior.

ACTION: Notice of Availability of the Draft Environmental Impact Statement, Nabesna Off-Road Vehicle Management Plan, Wrangell-St. Elias National Park and Preserve.

SUMMARY: Pursuant to the National Environmental Policy Act (NEPA) of 1969, 42 U.S.C. 4332(2)(C) the National Park Service (NPS) announces the availability of a Draft Environmental Impact Statement (DEIS) on Off-Road Vehicle Management in the Nabesna District of Wrangell-St. Elias National Park and Preserve. The DEIS evaluates the environmental impacts of a preferred alternative and three action alternatives for management of off-road vehicles in the Nabesna District. The purpose is to consider opportunities for appropriate and reasonable access to wilderness and backcountry recreational activities, which also accommodates subsistence and access to inholdings while protecting scenic quality, fish and wildlife habitat, and other park resource values. A no action alternative is also evaluated. This notice announces the public comment period, the locations of public meetings, and solicits comments on the DEIS. This DEIS also provides notice of a proposed technical correction to the wilderness eligibility assessment which was approved in the 1986 Wrangell-St. Elias National Park and Preserve General Management Plan. Public comment on the revised wilderness eligibility map for the Nabesna District is specifically requested.

DATES: The NPS will accept comments on the DEIS for 90 days following publication by the Environmental Protection Agency (EPA) of the Notice of Availability of the Draft Environmental Impact Statement. After the EPA Notice of Availability is published, the NPS will schedule public meetings during the comment period. Dates, times and locations of these meetings will be announced in press releases, local media and on the NPS Planning, Environment and Public Comment (PEPC) Web site for the project at http://parkplanning.nps.gov/wrst.

ADDRESSES: Copies of the DEIS will be available for public review at http://parkplanning.nps.gov/wrst. Hard copies are available at park headquarters, or may be requested from Meg Jensen, Superintendent, Wrangell-St. Elias National Park and Preserve, P.O. Box 439, Copper Center, Alaska 99573.

SUPPLEMENTARY INFORMATION: This DEIS evaluates the impacts of a range of alternatives for managing off-road vehicles (ORVs) for recreational and subsistence use in the Nabesna District of Wrangell-St. Elias National Park and Preserve. The nine trails under evaluation were in existence at the time the 13.2 million acre park and preserve was established in 1980. The use of ORVs was determined to be traditionally employed for subsistence activities in the 1986 General Management Plan. Beginning in 1983, the park issued permits for recreational ORV use of these established trails, initially in accordance with 36 CFR 13.14(c), which was replaced by 43 CFR 36.11(g)(2) in 1986. The park issues 200 recreational ORV permits per year on average. The trails also provide for subsistence ORV use and access to inholdings. On June 29, 2006, the National Parks Conservation Association, Alaska Center for the Environment, and The Wilderness Society (Plantiffs) filed a lawsuit against NPS in the United States District Court for the District of Alaska regarding recreational ORV use on the nine trails that are the subject of this EIS. The plaintiffs challenged the NPS issuance of recreational ORV permits asserting that NPS failed to make the required finding that recreational ORV use is compatible with the purposes and values of the Park and Preserve. They also claimed that the NPS failed to prepare an environmental analysis of recreational ORV use as required by NEPA.

In the May 15, 2007, settlement agreement, NPS agreed to endeavor to complete an EIS, Record of Decision (ROD) and compatibility determination by December 31, 2010, during which time recreational use of ORVs on the Suslota Lake Trail, Tanada Lake Trail, and a portion of the Copper Lake Trail will be permitted only when the ground is frozen. The NPS may continue to issue permits for recreational ORV use of the remaining six trails through the year 2010.

The DEIS considers a reasonable range of alternatives based on project purpose and need, and considering park resources and values, and public input. For recreational ORV use in national preserves, Section 4.10(b) of the NPS regulations in Title 36 of the Code of Federal Regulations (CFR) implements Executive Orders 11644 and 11989 and provides that routes and areas designated for off-road vehicle use be promulgated as special regulations. Alternatives that consider recreational ORV use on park land or closure of areas to subsistence use of ORVs (confined to trails) would also require a park-specific regulation.

Alternative 1 evaluates the impacts of the no-action and describes conditions under the lawsuit settlement. Recreational ORV use would be permitted on all trails except Suslota, Tanada Lake, or Copper Lake trails, until the ground is frozen. There would be no change to subsistence ORV use and no trail improvements.

Alternative 2 would permit recreational ORV use on all nine trails. There would be no change to subsistence ORV use and no trail improvements.

Alternative 3 would prohibit recreational ORV use. Subsistence ORV use would continue, and some trail improvements would be made. Trail conditions would be monitored, and adaptive management steps would be taken to prevent further resource degradation.

Alternative 4 would permit recreational ORV use on designated trails in the preserve (Caribou Creek, Lost Creek, Trail Creek, Soda Lake, Reeve Field) once improvements are made, but not in the park (Tanada Lake, Copper Lake, Boomerang). All trails (except Suslota) would be improved to at least a maintainable condition through trail hardening, tread improvement, or constructed re-routes. Subsistence ORV use would continue subject to monitoring and management activities in the same manners as alternative 3.

Alternative 5 would permit recreational ORV use on all nine trails. All trails (except Suslota) would be improved to at least a maintainable condition as under alternative 4. Until improved, recreational ORV use would not be permitted on trails with the most resource degradation (Tanada Lake, Suslota, and Copper Lake) and subsistence ORV use would continue to be subject to monitoring and adaptive management steps in the same manner as alternative 3, and would be confined to trails in park wilderness. Alternative 5 is the NPS Preferred Alternative.

Public meetings will be held in Anchorage, Fairbanks, Tok, Slana, and Glennallen, Alaska. The specific dates and times will be announced in local media.

If you wish to submit comments electronically, you may submit your comments online in the PEPC Web site by visiting http://parkplanning.nps.gov/wrst. NPS encourages commenting electronically through PEPC. If you wish to submit written comments in hard copy (e.g. in a letter) you may send them by U.S. Postal Service or other mail delivery service or hand-delivered to Meg Jensen, Superintendent, Wrangell-St. Elias National Park and Preserve, P.O. Box 439, Copper Center, Alaska 99573. Oral statements and written comments will also be accepted during the public meetings. Bulk comments in any format (hard copy or electronic) submitted on behalf of others will not be considered. Before including your address, phone number, e-mail address, or other personal identifying information in your comment, you should be aware that your entire comment—including your personal identifying information—may be made publicly available at any time. While you can ask us in your comment to withhold your personal identifying information from public review, we cannot guarantee that we will be able to do so. We will always make submissions from organizations or businesses, and from individuals identifying themselves as representatives of or officials of organizations or businesses, available for public inspection in their entirety.

FOR FURTHER INFORMATION CONTACT: Bruce Rogers, Project Manager, Wrangell-St. Elias National Park and Preserve, P.O. Box 439, Copper Center, Alaska 99573. Telephone: 907-822-7276.

Victor W. Knox,
Acting Regional Director, Alaska.

[FR Doc. 2010-19737 Filed 8-10-10; 8:45 am]

BILLING CODE 5312-HC-P